DEPARTMENT OF COMMERCE

National Oceanic and Atmospheric Administration

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Collaborative Research Committee will hold a public meeting.

DATES: The meeting will be held on Friday, Nov. 13, 2015, from 9 a.m. to 12 p.m.

ADDRESSES: The meeting will be held via webinar. Webinar connection details will be available at: http://www.mafmc.org.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The Council has undertaken a short-term collaborative research initiative and intends to provide funding for several projects that address specific, Council-defined collaborative research topics pertaining to mid-Atlantic fisheries. The purpose of this Collaborative Research Committee meeting is to develop a list of 4-6 research priorities which will be used to guide the solicitation of proposals and selection of projects to receive funding. A detailed agenda and background documents will be made available on the Council's Web site (www.mafmc.org) prior to the meeting.

Special Accommodations

The meeting is physically accessible to people with disabilities. Requests for sign language interpretation or other auxiliary aid should be directed to M. Jan Saunders, (302) 526-5251, at least 5 days prior to the meeting date.

Dated: October 21, 2015.
Tracey L. Thompson,
Acting Deputy Director, Office of Sustainable Fisheries, National Marine Fisheries Service.

[FR Doc. 2015-27132 Filed 10-23-15; 8:45 am]

BILLING CODE 3510-22-P